DEPARTMENT OF HOMELAND SECURITY

Customs and Border Protection

[CBP Dec. 04-23]

Duty-Free Treatment of Articles Imported in Connection With the 2004 FINA World Championships

AGENCY: U.S. Customs and Border Protection, Department of Homeland Security.

ACTION: Notice of designation of international athletic event for purposes of preferential tariff provision.

SUMMARY: This notice advises the public of the designation of the 2004 Federation Internationale de Natation (FINA) World Championships, an international swimming competition, as a qualifying international athletic event under subheading 9817.60.00, Harmonized Tariff Schedule of the United States (HTSUS).

EFFECTIVE DATE: July 28, 2004.

FOR FURTHER INFORMATION CONTACT: Kristen K. Ver Steeg, Office of Regulations and Rulings (202-572-8810).

SUPPLEMENTARY INFORMATION:

Background

Section 1456 of the Tariff Suspension and Trade Act of 2000 (the Act) (Pub. L. 106-476, 114 Stat. 2101) promulgated the duty-free treatment provided under subheading 9817.60.00, HTSUS, for certain articles brought into the United States for certain international athletic events. Subheading 9817.60.00, HTSUS, which implements section 1456(a) of the Act, states:

Any of the following articles not intended for sale or distribution to the public: personal effects of aliens who are participants in, officials of, or accredited members of delegations to, an international athletic event held in the United States, such as the Olympics and Paralympics, the Goodwill Games, the Special Olympics World Games, the World Cup Soccer Games, or any similar international athletic event as the Secretary of the Treasury may determine, and of persons who are immediate family members of or servants to any of the foregoing persons; equipment and materials imported in connection with any such foregoing event by or on behalf of the foregoing persons or the organizing committee of such an event, articles to be used in exhibitions depicting the culture of a country participating in such an event; and, if consistent with the foregoing, such other articles as the Secretary of the Treasury may allow.

Section 1456(b) of the Act, provides that such articles are free of duty, taxes, and fees, but are subject to routine inspections. The authority in section 1456 has been delegated to the Commissioner of Customs and Border Protection. See Homeland Security Act of 2002 (Public Law 107-296), Treasury Department Order No. 100-16, DHS Delegation Number 7010.1.

The 2004 World Swimming Championships will be held in Indianapolis, Indiana, from October 7, 2004, though October 11, 2004. This event is sponsored by the FINA, which is the international governing body for all aquatic sports, including swimming. United States Aquatic Sports (USAS), USA Swimming and the Indiana Sports Corporation will also sponsor the event, which will feature approximately 600 athletes from more than 100 countries. The President, USAS, on behalf of the Indiana Sports Corporation, has requested that the event be designated as a qualifying international athletic event for purposes of subheading 9817.60.00, HTSUS.

Determination

It is determined that the 2004 FINA World Championships qualifies as a “similar international athletic event” in accordance with section 1456 of the Tariff Suspension and Trade Act of 2000. Therefore, articles meeting the conditions and requirements set forth in subheading 9817.60.00, HTSUS, imported in connection with the 2004 FINA World Swimming Championships, will be entitled to duty-free treatment.

Robert C. Bonner,
Commissioner, U.S. Customs and Border Protection.

[FR Doc. 04-17116 Filed 7-27-04; 8:45 am]

BILLING CODE 4820-02-P